DEPARTMENT OF TRANSPORTATION

Federal Aviation Administration

14 CFR Part 71

[Docket No. FAA-2014-0274; Airspace Docket No. 13-AGL-23]

RIN 2120-AA66

Modification and Revocation of Air Traffic Service (ATS) Routes in the Vicinity of Sandusky, OH

AGENCY: Federal Aviation Administration (FAA), DOT.

ACTION: Final rule.

SUMMARY: This action amends 5 VHF Omnidirectional Range (VOR) Federal airways (V-6, V-30, V-126, V-133, and V-416) and removes 1 VOR Federal airway (V-65) in the vicinity of Sandusky, OH. The FAA is taking this action due to the scheduled decommissioning of the Sandusky, OH, VOR/Distance Measuring Equipment (VOR/DME) facility that provides navigation guidance for a portion of the airways listed.

DATES: Effective date 0901 UTC, November 13, 2014. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

The FAA published in the Federal Register a notice of proposed rulemaking (NPRM) to amend VOR Federal airways V-6, V-30, V-126, V- 133, and V-416, and remove VOR Federal airway V-65 in the Sandusky, OH, area (79 FR 34453, June 17, 2014). Interested parties were invited to participate in this rulemaking effort by submitting written comments on the proposal. No comments were received.

The Rule

The FAA is amending Title 14, Code of Federal Regulations (14 CFR) part 71 by modifying VOR Federal airways V-6, V-30, V-126, V-133, and V-416, and removing VOR Federal airway V-65 in the vicinity of Sandusky, OH. These airway modifications are necessary due to the Sandusky, OH, VOR/DME being decommissioned and the remaining ground-based navigation aid (NAVAID) coverage in the area being insufficient to enable the continuity of the affected airways. The route modifications are outlined below.

V-6: V-6 extends from the Oakland, CA, VOR Tactical Air Navigation (VORTAC) to the DuPage, IL, VOR/DME, and from the intersection of the Chicago Heights, IL, VORTAC 358° and Gipper, MI, VORTAC 271° radials (NILES fix) to the La Guardia, NY, VOR/DME. The route segment between the Waterville, OH, VOR/DME and Dryer, OH, VOR/DME is removed. Aircraft flying between the Waterville, OH, VOR/DME and Dryer, OH, VOR/DME will be routed using other existing adjacent airways.

V-30: V-30 extends from the Badger, WI, VORTAC to the Solberg, NJ, VOR/DME. The route segment between the Waterville, OH, VOR/DME and Dryer, OH, VOR/DME is removed. Aircraft flying between the Waterville, OH, VOR/DME and Dryer, OH, VOR/DME will be routed using other existing adjacent airways.

V-65: V-65 is removed.

V-126: V-126 extends from the intersection of the Peotone, IL, VORTAC 053° and Knox, IN, VOR/DME 297° radials (BEARZ fix) to the Stonyfork, PA, VOR/DME. The route segment between the Waterville, OH, VOR/DME and Dryer, OH, VOR/DME is removed. Aircraft flying between the Waterville, OH, VOR/DME and Dryer, OH, VOR/DME will be routed using other existing adjacent airways.

V-133: V-133 extends from the intersection of the Charlotte, NC, VOR/DME 305° and Barretts Mountain, NC, VOR/DME 197° radials (LINCO fix) to the Red Lake, ON, Canada (YRL), VOR/DME, excluding the airspace within Canada. The route segment between the Mansfield, OH, VORTAC and Salem, MI, VORTAC is removed. Aircraft flying between the Mansfield, OH, VORTAC and Salem, MI, VORTAC will be routed using other existing adjacent airways.

V-416: V-416 extends from the Rosewood, OH, VORTAC to the intersection of the Mansfield, OH, VORTAC 045° and Sandusky, OH, VOR/DME 107° radials (JAKEE fix). The JAKEE fix is redefined in its existing location using radials from the Mansfield, OH, VORTAC and Dryer, OH, VOR/DME.

The navigation aid radials cited in the VOR Federal airway descriptions in this action are stated relative to True north.

Domestic VOR Federal airways are published in paragraph 6010(a) of FAA Order 7400.9Y dated August 6, 2014, and effective September 15, 2014, which is incorporated by reference in 14 CFR 71.1. The VOR Federal airways listed in this document would be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014 and effective September 15, 2014, is amended as follows:

Paragraph 6010(a) Domestic VOR Federal Airways

* * * * *

V-6 [Amended]

From Oakland, CA; INT Oakland 039° and Sacramento, CA, 212° radials; Sacramento; Squaw Valley, CA; Mustang, NV; Lovelock, NV; Battle Mountain, NV; INT Battle Mountain 062° and Wells, NV, 256° radials; Wells; 5 miles, 40 miles, 98 MSL, 85 MSL, Lucin, UT; 43 miles, 85 MSL, Ogden, UT; 11 miles, 50 miles, 105 MSL, Fort Bridger, WY; Rock Springs, WY; 20 miles, 39 miles 95 MSL, Cherokee, WY; 39 miles, 27 miles 95 MSL, Medicine Bow, WY; INT Medicine Bow 106° and Sidney, NE., 291° radials; Sidney; North Platte, NE; Grand Island, NE; Omaha, NE; Des Moines, IA; Iowa City, IA; Davenport, IA; INT Davenport 087° and DuPage, IL, 255° radials; to DuPage. From INT Chicago Heights, IL, 358° and Gipper, MI, 271° radials; Gipper; INT Gipper 092° and Waterville, OH, 288° radials; to Waterville. From Dryer, OH; Youngstown, OH; Clarion, PA; Philipsburg, PA; Selinsgrove, PA; Allentown, PA; Solberg, NJ; INT Solberg 107° and Yardley, PA, 068° radials; INT Yardley 068° and La Guardia, NY, 213° radials; to La Guardia. The airspace within R-4803, R-4813A, and R-4813B is excluded when active.

* * * * *

V-30 [Amended]

From Badger, WI; INT Badger 102° and Pullman, MI, 303° radials; Pullman; Litchfield, MI; to Waterville, OH. From Dryer, OH; Akron, OH; Clarion, PA; Philipsburg, PA; Selinsgrove, PA; East Texas, PA; INT East Texas 095° and Solberg, NJ, 264° radials; to Solberg.

* * * * *

V-65 [Removed]

* * * * *

V-126 [Amended]

From INT Peotone, IL, 053° and Knox, IN, 297° radials; INT Knox 297° and Goshen, IN, 270° radials; Goshen; to Waterville, OH. From Dryer, OH; Jefferson, OH; Erie, PA; Bradford, PA; to Stonyfork, PA.

* * * * *

V-133 [Amended]

From INT Charlotte, NC, 305° and Barretts Mountain, NC, 197° radials; Barretts Mountain; Charleston, WV; Zanesville, OH; Tiverton, OH; to Mansfield, OH. From Salem, MI; INT Salem 346° and Saginaw, MI, 160° radials; Saginaw; Traverse City, MI; Escanaba, MI; Sawyer, MI; Houghton, MI; Thunder Bay, ON, Canada; International Falls, MN; to Red Lake, ON, Canada. The airspace within Canada is excluded.

* * * * *

V-416 [Amended]

From Rosewood, OH; INT Rosewood 041° and Mansfield, OH, 262° radials; Mansfield; to INT Mansfield 045° and Dryer, OH, 123° radials.

* * * * *

Issued in Washington, DC, on September 11, 2014.
Ellen Crum,
Acting Manager, Airspace Policy and Regulations Group.

[FR Doc. 2014-22238 Filed 9-17-14; 8:45 am]

BILLING CODE 4910-13-P